DEPARTMENT OF HEALTH AND HUMAN SERVICES

Administration on Aging

2005 White House Conference on Aging Policy Committee

AGENCY: Administration on Aging, HHS.

ACTION: Notice of meeting.

SUMMARY: Pursuant to Section 10(a) of the Federal Advisory Committee Act as amended (5 U.S.C. Appendix 2), notice is hereby given that the Policy Committee for the 2005 White House Conference on Aging (WHCoA) voted to change the date of the WHCoA event from October 23 to 26, 2005 to December 11 to 14, 2005. The 2005 WHCoA will be held at the Marriott Wardman Park Hotel, 2660 Woodley Road, NW., Washington, DC 20008.

DATES: The meeting will be held Sunday, December 11, 2005 to Wednesday, December 14, 2005.

ADDRESSES: The meeting will be held at the Marriott Wardman Park Hotel, 2660 Woodley Road, NW., Washington, DC 20008.

FOR FURTHER INFORMATION CONTACT: Remy Aronoff at (301) 443-2828, or e-mail at Remy.Aronoff@whcoa.gov.

SUPPLEMENTARY INFORMATION: Pursuant to the Older Americans Act Amendments of 2000 (Pub. L. 106-501, November 2000), the WHCoA Policy Committee voted to change the date of the 2005 WHCoA event from October 23 to 26, 2005 to December 11 to 14, 2005. In order to accommodate the 1,200 delegates and the large number of potential exhibitors who will participate in the WHCoA, the event will be held at the Marriott Wardman Park Hotel, address above.

The WHCoA is a decennial event intended to produce resolutions and implementation strategies to be presented to the President and Congress to help guide national aging policies for the next decade and beyond. The majority of the 1,200 delegates, selected by Governors of all 50 States, the U.S. Territories, Puerto Rico, the Mayor of the District of Columbia, members of the 109th Congress, and the National Congress of American Indians were announced on June 1, 2005. The balance of the delegates, known as “At-Large Delegates” will be selected by the WHCoA Policy Committee and should be announced by late July 2005. These delegates will represent national aging and other allied organizations, baby boomers, academic institutions, business and industry, disability, non-profit and veterans' organizations and other representatives from the field of aging.

Dated: July 1, 2005.
Edwin L. Walker,
Deputy Assistant Secretary for Policy and Programs.

[FR Doc. 05-13341 Filed 7-6-05; 8:45 am]

BILLING CODE 4154-01-P